DEPARTMENT OF ENERGY

Federal Energy Regulatory Commission

Combined Notice of Filings

Take notice that the Commission has received the following Natural Gas Pipeline Rate and Refund Report filings:

Docket Number: PR21-7-000.

Applicants: Louisville Gas and Electric Company.

Description: Tariff filing per 284.123(b), (e)/:Revised Statement of Operating Conditions to be effective 11/1/2020.

Filed Date: 11/27/20.

Accession Number: 20201127-5000.

Comments/Protests Due: 5 p.m. ET 12/18/2020.

Docket Numbers: RP21-258-000.

Applicants: Adelphia Gateway, LLC.

Description: § 4(d) Rate Filing: Adelphia Tariff Update filing 11-30-20 to be effective 12/30/2020.

Filed Date: 11/30/20.

Accession Number: 20201130-5030

Comments Due: 5 p.m. ET 12/14/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 30, 2020.
Kimberly D. Bose,
Secretary.

[FR Doc. 2020-26707 Filed 12-3-20; 8:45 am]

BILLING CODE 6717-01-P